FEDERAL COMMUNICATIONS COMMISSION

47 CFR Part 73

[DA 01-2236; MM Docket No. 01-254; RM-10264; MM Docket No. 01-255; RM-10265; MM Docket No. 01-256; RM-10266; MM Docket No. 01-257; RM-10267; MM Docket No. 01-258; RM-10268; MM Docket No. 01-259; RM-10269; MM Docket No. 01-260; RM-10270; MM Docket No. 01-261; RM-10271]

Radio Broadcasting Services; Atoka; OK; Wright City, OK; Benavides, TX; Bad Axe, MI; Bearden, AR; Grandin, MO; Pawhuska, OK; and Early, TX

AGENCY: Federal Communications Commission.

ACTION: Proposed rule.

SUMMARY: This document proposes new allotments to Atoka, OK; Wright City, OK; Benavides, TX; Bad Axe, MI; Bearden, AR; Grandin, MO; Pawhuska, OK; and Early, TX. The Commission requests comments on a petition filed by Maurice Salsa, proposing the allotment of Channel 290A at Atoka, OK, as that community's second local FM transmission service. Channel 290A can be allotted to Atoka at a restricted site located 1.8 kilometers southeast of the community, utilizing coordinates 34-22-25 NL and 96-06-57 WL. See Supplementary Information, infra.

DATES: Comments must be filed on or before November 19, 2001, and reply comments on or before December 4, 2001.

ADDRESSES: Secretary, Federal Communications Commission, Washington, DC 20554. In addition to filing comments with the FCC, interested parties should serve the petitioners, as follows: Maurice Salsa, 5616 Evergreen Valley Drive, Kingwood, TX 77345 (petitioner for Atoka, OK; Wright City, OK; and Pawhuska, OK); Jeraldine Anderson, 1702 Cypress Drive, Irving, TX 75061 (petitioner for Benavides, TX; and Early, TX); Charles Crawford, 4553 Bordeaux Ave., Dallas, TX 75205 (petitioner for Bad Axe, MI; Bearden, AR; and Grandin, MO).

FOR FURTHER INFORMATION CONTACT: Nancy Joyner, Mass Media Bureau, (202) 418-2180.

SUPPLEMENTARY INFORMATION: This is a synopsis of the Commission's Notice of Proposed Rule Making, MM Docket No. 01-254; MM Docket No. 01-255; MM Docket No. 01-256; MM Docket No. 01-257; MM Docket No. 01-258; MM Docket No. 01-259; MM Docket No. 01-260; and MM Docket No. 01-261, adopted September 19, 2001, and released September 28, 2001. The full text of this Commission decision is available for inspection and copying during normal business hours in the FCC's Reference Information Center (Room CY-A257), 445 Twelfth Street, SW., Washington, DC. The complete text of this decision may also be purchased from the Commission's copy contractor, Qualtex International, Portals II, 445 12th Street, SW., Room CY-B402, Washington, DC 20554, telephone (202) 863-2893.

In addition to the above, the Commission requests comments on a petition filed by Maurice Salsa proposing the allotment of Channel 226A at Wright City, Oklahoma, as that community's first local aural transmission service. Channel 226A requires a site restriction 5.0 kilometers northeast of the community, utilizing coordinates 34-05-58 NL and 94-58-34 WL.

The Commission further requests comments on a petition filed by Jeraldine Anderson proposing the allotment of Channel 282A at Benavides, Texas, as that community's second local FM transmission service. Channel 282A requires a site restriction 5.3 kilometers south of the community, utilizing coordinates 27-32-59 NL and 98-25-11 WL. Additionally, as Benavides is located within 320 kilometers of the U.S.-Mexico border, concurrence of the Mexican government will be requested for this allotment.

The Commission further requests comments on a petition filed by Charles Crawford proposing the allotment of Channel 231A at Bad Axe, Michigan, as that community's second local FM transmission service. Channel 231A can be allotted to Bad Axe at city reference coordinates 43-48-12 NL and 83-00-00 WL. However, as Bad Axe is located within 320 kilometers of the U.S.-Canada border, concurrence of the Canadian government will be requested for this allotment.

The Commission further requests comments on a petition filed by Charles Crawford proposing the allotment of Channel 224A at Bearden, Arkansas, as that community's first local aural transmission service. Channel 224A can be allotted to Bearden at city reference coordinates 33-43-24 NL and 92-36-54 WL.

The Commission further requests comments on a petition filed by Charles Crawford proposing the allotment of Channel 283A at Grandin, Missouri, as that community's first local aural transmission service. Channel 283A can be allotted to Grandin at city reference coordinates at 36-49-45 NL and 90-49-22 WL.

The Commission further requests comments on a petition filed by Maurice Salsa proposing the allotment of Channel 233A at Pawhuska, Oklahoma, as that community's second local FM transmission service. Channel 233A can be allotted to Pawhuska at a restricted site located 11.7 kilometers north of the community, utilizing coordinates 36-46-16 NL and 96-21-39 WL.

The Commission further requests comments on a petition filed by Jeraldine Anderson proposing the allotment of Channel 294A at Early, Texas, as that community's first local aural transmission service. Channel 294A can be allotted to Early at city reference coordinates 31-44-31 NL and 98-56-43 WL.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Bearden, Channel 224A.

3. Section 73.202(b), the Table of FM Allotments under Michigan, is amended by adding Channel 231A at Bad Axe.

4. Section 73.202(b), the Table of FM Allotments under Missouri, is amended by adding Grandin, Channel 283A.

5. Section 73.202(b), the Table of FM Allotments under Oklahoma, is amended by adding Channel 290A at Atoka; Channel 233A at Pawhuska; and Wright City, Channel 226A.

6. Section 73.202(b), the Table of FM Allotments under Texas, is amended by adding Channel 282A at Benavides; and Early, Channel 294A.

Federal Communications Commission.
John A. Karousos,
Chief, Allocations Branch, Policy and Rules Division, Mass Media Bureau.

[FR Doc. 01-26062 Filed 10-16-01; 8:45 am]

BILLING CODE 6712-01-P